DEPARTMENT OF DEFENSE

Office of the Secretary

[Docket ID: DoD-2024-OS-0142]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by June 30, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Police Records Check; DD Form 369; OMB Control Number 0704-0007.

Type of Request: Revision.

Number of Respondents: 199,521.

Responses per Respondent: 1.

Annual Responses: 199,521.

Average Burden per Response: 27 minutes.

Annual Burden Hours: 89,784.

Needs and Uses: Title 10, United States Code, sections 504, 505, and 12102 establish minimal standards for enlistment into the Armed Forces. Among other items, these sections specifically prohibit the enlistment of those convicted of a felony. The Services have therefore developed standards which address the acceptability for Service persons with police records, adverse juvenile adjudications, or court convictions. The standards are designed to screen out categories of persons who have probability of either having serious disciplinary problems or may not be able to adjust to the disciplinary demands of the Armed Forces. This information collection is needed to identify persons who may be undesirable for military service. The existence of a police record is one of the factors considered in establishing eligibility for enlistment or entry into highly sensitive career fields. Therefore, verification data from the individual and law enforcement agencies must be obtained before enlistment can occur. The form associated with this information collection is DD Form 369, “Police Record Check.” It is used by recruiters to inquire on applicants' backgrounds prior to acceptance to the Armed Forces, when, in the judgment of the recruiter, an applicant may be withholding information of prior offense history.

Affected Public: Individuals or households.

Frequency: On occasion.

Respondent's Obligation: Voluntary.

DoD Clearance Officer: Mr. Reginald Lucas.

Dated: May 22, 2025.
Stephanie J. Bost,
Alternate OSD Federal Register Liaison Officer, Department of Defense.

[FR Doc. 2025-09686 Filed 5-28-25; 8:45 am]

BILLING CODE 6001-FR-P